DEPARTMENT OF TRANSPORTATION

Research and Special Programs Administration

49 CFR Part 192

Damage Prevention Program

CFR Correction

In Title 49 of the Code of Federal Regulations, parts 186 to 199, revised as of October 1, 2004, on page 81, in § 192.614 paragraph (c)(5) is corrected by removing the word “possible” and adding in its place the word “practical”.

[FR Doc. 05-55512 Filed 9-29-05; 8:45 am]

BILLING CODE 1505-01-D